DEPARTMENT OF ENERGY

Federal Energy Regulatory Commission

Combined Notice of Filings #1

May 17, 2007.

Take notice that the Commission received the following electric corporate filings:

Docket Numbers: EC07-66-000; ES07-26-000; EL07-45-000.

Applicants: Entergy Gulf States, Inc.; Entergy Gulf States Louisiana, L.L.C.; Entergy Texas, Inc.

Description: Entergy Services, Inc submits additional information as a supplement to their original application filed on March 13, 2007.

Filed Date: 5/4/2007.

Accession Number: 20070511-0106.

Comment Date: 5 p.m. Eastern Time on Thursday, May 24, 2007.

Docket Numbers: EC07-89-000; ER07-887-000.

Applicants: ITC Holdings Corp.; ITC Midwest LLC; Interstate Power and Light Company; Midwest Independent Transmission System Operator, Inc.

Description: ITC Holdings Corp (ITC) et al requests authorizations and approvals necessary for the sale by Interstate Power & Light Company and the purchase by ITC Midwest of all of IPL's jurisdictional transmission facilities.l.

Filed Date: 5/11/2007.

Accession Number: 20070516-0001.

Comment Date: 5 p.m. Eastern Time on Friday, June 1, 2007.

Take notice that the Commission received the following electric rate filings:

Docket Numbers: ER04-1003-007.

Applicants: American Electric Power Service Corp.

Description: American Electric Power Service Corp submits an amendment to its filing in compliance with FERC's 4/18/07 Order.

Filed Date: 5/11/2007.

Accession Number: 20070515-0332.

Comment Date: 5 p.m. Eastern Time on Friday, June 1, 2007.

Docket Numbers: ER07-445-001.

Applicants: Duke Energy Indiana, Inc.

Description: Duke Energy Corp reports that on 4/26/07 Duke Energy Indiana, Inc and Indiana Municipal Power Agency executed a new power agreement to replace the Power Coordination Agreement, effective 6/1/07.

Filed Date: 5/14/2007.

Accession Number: 20070516-0184.

Comment Date: 5 p.m. Eastern Time on Monday, June 4, 2007.

Docket Numbers: ER07-614-001.

Applicants: American Transmission Systems, Inc.

Description: American Transmission Systems, Inc's response to FERC's deficiency letter dated 4/12/07.

Filed Date: 5/11/2007.

Accession Number: 20070515-0337.

Comment Date: 5 p.m. Eastern Time on Friday, June 1, 2007.

Docket Numbers: ER07-626-001.

Applicants: American Electric Power Service Corp.

Description: American Electric Power Service Corp submits a revised tariff sheet to the Open Access Transmission Tariff, FERC Electric Tariff, Third Revised Volume 6 in compliance with FERC's 4/13/07 Order.

Filed Date: 5/14/2007.

Accession Number: 20070516-0179.

Comment Date: 5 p.m. Eastern Time on Monday, June 4, 2007.

Docket Numbers: ER07-671-001.

Applicants: Trigen-St. Louis Energy Corporation.

Description: Trigen-St Louis Energy Corp submits its revised FERC Electric Tariff, Original Volume 1.

Filed Date: 05/14/2007.

Accession Number: 20070516-0183.

Comment Date: 5 p.m. Eastern Time on Monday, June 4, 2007.

Docket Numbers: ER07-892-000.

Applicants: Louis Dreyfus Energy Services L.P.

Description: Louis Dreyfus Energy Services, LP submits its Petition for Acceptance of Initial Rate Schedule, Waivers and Blanket Authorization.

Filed Date: 5/14/2007.

Accession Number: 20070516-0178.

Comment Date: 5 p.m. Eastern Time on Monday, June 4, 2007.

Docket Numbers: ER07-894-000.

Applicants: Mid-Continent Energy Marketers Assoc.

Description: Mid-Continent Energy Marketers Association's filing to modify its Capacity and Energy Tariff to comply with Order 890.

Filed Date: 5/14/2007.

Accession Number: 20070516-0180.

Comment Date: 5 p.m. Eastern Time on Monday, June 4, 2007.

Docket Numbers: ER07-895-000.

Applicants: Louis Dreyfus Energy LLC.

Description: Louis Dreyfus Energy LLC submits a Notice of Cancellation of Rate Schedule FERC 1.

Filed Date: 5/14/2007.

Accession Number: 20070516-0181.

Comment Date: 5 p.m. Eastern Time on Monday, June 4, 2007.

Docket Numbers: ER07-896-000.

Applicants: Vermont Yankee Nuclear Power Corporation.

Description: Vermont Yankee Nuclear Power Corp submits an application to reduce its wholesale electric rates—the accrual for post-retirement benefits other than pensions.

Filed Date: 5/14/2007.

Accession Number: 20070516-0182.

Comment Date: 5 p.m. Eastern Time on Monday, June 4, 2007.

Docket Numbers: ER07-897-000.

Applicants: Southern Company Services, Inc.

Description: Southern Company Services, Inc on behalf of Alabama Power Company et al submits an initial transmission service agreement for network integrated transmission service.

Filed Date: 5/14/2007.

Accession Number: 20070516-0186.

Comment Date: 5 p.m. Eastern Time on Monday, June 4, 2007.

Take notice that the Commission received the following electric securities filings:

Docket Numbers: ES07-38-000.

Applicants: El Paso Electric Company.

Description: Application of El Paso Electric Company for Authorization under Section 204 of Federal Power Act Regarding a Revolving Credit Facility.

Filed Date: 5/16/2007.

Accession Number: 20070516-5021.

Comment Date: 5 p.m. Eastern Time on Wednesday, June 6, 2007.

Docket Numbers: ES07-39-000.

Applicants: El Paso Electric Company.

Description: Application of El Paso Electric Company for Authorization under Section 204 of the Federal Power Act to Issue Stock under its 2007 Long-Term Incentive Plan.

Filed Date: 5/16/2007.

Accession Number: 20070516-5028.

Comment Date: 5 p.m. Eastern Time on Wednesday, June 6, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E7-9987 Filed 5-23-07; 8:45 am]

BILLING CODE 6717-01-P